DEPARTMENT OF AGRICULTURE

Submission for OMB Review; Comment Request

The Department of Agriculture will submit the following information collection requirement(s) to OMB for review and approval under the Paperwork Reduction Act of 1995, Public Law 104-13 on or after the date of publication of this notice. Comments are requested regarding: (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by November 30, 2023. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Economic Research Service

Title: Generic Clearance for Survey Research Studies.

OMB Control Number: 0536-0073.

Summary of Collection: The Economic Research Service (ERS) of the United States Department of Agriculture (USDA) requests renewal from the Office of Management and Budget (OMB) for generic clearance that will allow ERS to conduct research to improve the quality of data collection by developing, testing, and evaluating its survey instruments, methodologies, technology, interview processes, and respondent recruitment protocols. The primary objective of ERS is providing timely research and analysis to public and private decision makers on topics related to agriculture, food, the environment, and rural America. This request is part of an on-going initiative to improve the quality of ERS' data products in general and surveys in specific as recommended by both its own guidelines and those of OMB.

Need and Use of the Information: The information collected in this program will be used by staff from the ERS and sponsoring agencies to evaluate and improve the quality of the data in the surveys and censuses that are ultimately conducted. Specifically, the information will be used to reduce respondent burden while simultaneously improving the quality of the data collected in these surveys. These objectives are met when respondents are presented with plain, coherent and unambiguous questionnaires that ask for information, which are compatible with respondents' memory and/or current reporting and record keeping practices. The purpose of the survey improvement projects will be to ensure that ERS surveys continuously attempt to meet these standards of excellence.

Description of Respondents: Individuals or households; Business or other for-profit; Not-for-profit institutions; Farms; State, Local or Tribal Government.

Number of Respondents: 3,630.

Frequency of Responses: Reporting annually.

Total Burden Hours: 1,815.

Rachelle Ragland-Greene,
Departmental Information Collection Clearance Officer.

[FR Doc. 2025-06670 Filed 4-17-25; 8:45 am]

BILLING CODE 3410-18-P